DEPARTMENT OF COMMERCE

International Trade Administration

[A-428-602]

Brass Sheet and Strip From Germany: Amended Final Results of Antidumping Duty Administrative Review

AGENCY: Import Administration, International Trade Administration, U.S. Department of Commerce.

SUMMARY: On October 12, 2010, the Deputy Assistant Secretary of the U.S. Department of Commerce (the Department) signed the final results of the administrative review of the antidumping duty order on brass sheet and strip (BSS) from Germany for the period of review (POR) March 1, 2008, through February 28, 2009. In preparing documentation for the release to the interested parties, we noted that we had inadvertently referred to business proprietary information (BPI) in explaining the Department's position for certain comments discussed in the Issues and Decision Memorandum accompanying the final results of the instant review. This error was discovered prior to publication in the Federal Register; therefore, the Department did not publish the original notice or place the Issues and Decision memorandum on the Import Administration Web site. In order to ensure that such BPI is not inappropriately released to any party, we have amended the accompanying Issues and Decision memorandum to remove BPI. The original Department's position containing the BPI information for Comments 1 and 5 are included as BPI in the Cost and Sales Calculation Memorandum for reference.¹ There was no substantive change to the Department's positions associated with this change. The original signed notice of final results of the instant review was public in its entirety. We have adopted the entire original notice below correcting only the citation to the Issues and Decision Memorandum. This notice is being published in place of the original.

¹ See Memorandum from Ernest Gziryan through Taija Slaughter to Neal Halper, titled “Cost of Production and Constructed Value Calculation Adjustments for the Final Results—Wieland-Werke AG,” dated October 12, 2010; see also Memorandum from Dennis McClure through James Terpstra to The File, titled “Sales Analysis Memorandum for the Final Results—Wieland-Werke AG,” dated October 12, 2010 (“Cost and Sales Calculation Memorandum”).

On April 13, 2010, the Department of Commerce (the Department) published the preliminary results of the administrative review of the antidumping duty order on brass sheet and strip (BSS) from Germany for the period of review (POR) March 1, 2008, through February 28, 2009. See Brass Sheet and Strip from Germany: Preliminary Results of Antidumping Duty Administrative Review, 75 FR 18801 (April 13, 2010) (Preliminary Results). We gave the interested parties an opportunity to comment on the Preliminary Results. Based on our analysis of the comments received, we have made changes to the margin calculation. The final weighted-average dumping margin for Wieland-Werke AG (Wieland) is in the section entitled “Final Results of Review.”

DATES: Effective Date: October 28, 2010

FOR FURTHER INFORMATION CONTACT: Dennis McClure or George McMahon, AD/CVD Operations, Office 3, Import Administration, International Trade Administration, U.S. Department of Commerce, 14th Street and Constitution Avenue, NW., Washington DC 20230; telephone: (202) 482-5973 or (202) 482-1167, respectively.

SUPPLEMENTARY INFORMATION

Background

On May 17, 2010, the Department published the postponement of the final results. See Brass Sheet and Strip from Germany: Extension of Time Limit for the Final Results of Antidumping Duty Administrative Review, 75 FR 27538 (May 17, 2010). The Department held its sales verification at Wieland from April 12, 2010, through April 14, 2010. We issued the sales verification report on June 10, 2010. The cost verification was held from July 5, 2010, through July 9, 2010. We issued the cost verification report on July 22, 2010.

We invited parties to comment on the Preliminary Results. We received a case brief from Wieland on July 30, 2010, and the petitioners ² submitted a revised case brief on August 6, 2010, based on a request to not include new information from the Department. Rebuttal briefs were submitted on August 9, 2010, by Wieland and the petitioners.

² The petitioners include GBC Metals, LLC of Global Brass and Copper, Inc., doing business as Olin Brass, Heyco Metals, Inc., Luvata Buffalo, Inc., PMX Industries, Inc., and Revere Copper Products, Inc.

Scope of the Order

The scope of this order covers shipments of brass sheet and strip, other than leaded and tinned, from Germany. The chemical composition of the covered products is currently defined in the Copper Development Association (C.D.A.) 200 Series or the Unified Numbering System (U.N.S.) C2000; this review does not cover products the chemical compositions of which are defined by other C.D.A. or U.N.S. series. In physical dimensions, the products covered by this review have a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (HTSUS) item numbers 7409.21.00 and 7409.29.00. Although the HTSUS item numbers are provided for convenience and customs purposes, the Department's written description of the scope of this order remains dispositive.

Analysis of Comments Received

All issues raised in the case briefs are addressed in the “Amended Issues and Decision Memorandum for the Final Results of the Administrative Review of the Antidumping Duty Order on Brass Sheet and Strip from Germany” (Amended Issues and Decision Memorandum), which is dated concurrently with and hereby adopted by this notice. A list of the issues which parties raised and to which we responded in the Amended Issues and Decision Memorandum is attached to this notice as an Appendix. The Amended Issues and Decision Memorandum is a public document which is on file in the CRU, and is accessible on the web at http://www.ia.ita.doc.gov/frn. The paper copy and electronic version of the memorandum are identical in content.

Changes Since the Preliminary Results

Based on our analysis of the comments received, we made the following changes in calculating the dumping margin for the final results: (1) We adjusted the reported fabrication costs and G&A expenses; (2) we used Wieland's day-specific metal costs to calculate the cost of production for the sales-below-cost test and the calculation of the constructed value; (3) we revised the cost recovery test to exclude the cost of other materials from the calculation of the quarterly indexed metal costs and calculated the POR-average cost of other materials; (4) we modified our price-to-price comparisons to ensure that all comparisons had the same metal fix date (if there were no matches, we used constructed value); and (5) we removed the trial sales in the comparison market from our analysis. See Amended Issues and Decision Memorandum at Comments 1, 2, 4, 5, and 6. For further details on how the cost changes above were applied in the calculation, see “Memorandum to Neal M. Halper from Ernest Z. Gziryan, Cost of Production and Constructed Value Calculation Adjustments for the Final Results—Wieland-Werke AG dated October 12, 2010.”

Final Results of Review

We determined that the following weighted-average dumping margin exists for Wieland for the period March 1, 2008 through February 28, 2009.

Manufacturer/exporter | Margin (percent)
Wieland-Werke AG | 0.00

Assessment Rate

Pursuant to 19 CFR 351.212(b), the Department calculated an assessment rate for each importer of the subject merchandise. Upon issuance of the final results of this administrative review, if any importer-specific assessment rates calculated in the final results are above de minimis (i.e., at or above 0.5 percent), the Department will issue appraisement instructions directly to CBP to assess antidumping duties on appropriate entries by applying the assessment rate to the entered value of the merchandise. For assessment purposes, we calculated importer-specific assessment rates for the subject merchandise by aggregating the dumping margins for all U.S. sales to each importer and dividing the amount by the total entered value of the sales to that importer. Where appropriate, to calculate the entered value, we subtracted international movement expenses (e.g., international freight) from the gross sales value.

The Department clarified its “automatic assessment” regulation on May 6, 2003 (68 FR 23954). This clarification will apply to entries of subject merchandise during the POR produced by companies included in these final results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

To calculate the cash deposit rate for Wieland, we divided its total dumping margin by the total net value of its sales during the review period. The following deposit rates will be effective upon publication of the final results of this administrative review for all shipments of BSS from Germany entered, or withdrawn from warehouse, for consumption on or after the publication date, as provided by section 751(a)(2)(C) of the Act: (1) The cash deposit rate for companies subject to this review will be the rate established in the final results of this review, except if the rate is less than 0.5 percent and, therefore, de minimis, no cash deposit will be required; (2) for previously reviewed or investigated companies not listed above, the cash deposit rate will continue to be the company-specific rate published for the most recent final results for a review in which that manufacturer or exporter participated; (3) if the exporter is not a firm covered in this review, a prior review, or the original less-than-fair-value (LTFV) investigation, but the manufacturer is, the cash deposit rate will be the rate established for the most recent final results for the manufacturer of the merchandise; and (4) if neither the exporter nor the manufacturer is a firm covered in this or any previous review conducted by the Department, the cash deposit rate will be 7.30 percent, the all-others rate established in the LTFV investigation. See Antidumping Duty Order: Brass Sheet and Strip from the Federal Republic of Germany, 52 FR 6997 (March 6, 1987), amended at 52 FR 35750 (September 23, 1987). These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: October 21, 2010.
Ronald K. Lorentzen,
Deputy Assistant Secretary for Import Administration.

Appendix: Comments in the Amended Issues and Decision Memorandum

Comment 1: Whether To Use Wieland's Daily Metal Costs for Purposes of Computing Costs of Production for the Sales Below Cost Test

Comment 2: Whether the Department's Quarterly Indexed Cost Methodology Meets the Requirements of the Statute's Cost Recovery Test

Comment 3: Whether To Revise Wieland's General and Administrative (G&A) Expense Ratio

Comment 4: Whether To Make Other Adjustments to the OTHMAT Costs, Fabrication Costs and General and Administrative Expenses

Comment 5: Whether the Department Should Adjust for Fluctuations in Metal Price in its Comparison of Export Price to Normal Value

Comment 6: Whether the Department Should Exclude Samples and Trial Shipments From its Antidumping Analysis

Comment 7: Whether Facts Available Should Be Applied

Comment 8: Whether Wieland's U.S. Sale is Bona Fide

Comment 9: Whether To Make a Finding of Reimbursement of Antidumping Duties

[FR Doc. 2010-27295 Filed 10-27-10; 8:45 am]

BILLING CODE 3510-DS-P